DEPARTMENT OF ENERGY

Federal Energy Regulatory Commission

[Docket Nos. EL01-10-000 and EL01-10-001]

Puget Sound Energy, Inc. v. All Jurisdictional Sellers of Energy and/or Capacity at Wholesale Into Electric Energy and/or Capacity Markets in the Pacific Northwest, Including Parties to the Western Systems Power Pool Agreement; Notice Scheduling Oral Argument

May 21, 2003.

On September 24, 2001, the Presiding Administrative Law Judge issued Recommendations and Proposed Findings of Fact in this proceeding.¹ The Transaction Finality Group has asked the Commission to provide for oral argument before the Commission regarding the legal, factual and policy issues raised in the proceeding.²Because oral argument will assist the Commission in its decision making in this case, oral argument will be held on June 2, 2003, from 10 a.m. to 12 noon in the Commission Meeting Room at 888 First Street, NE., Washington, DC 20426.

¹ Puget Sound Energy, Inc. v. All Jurisdictional Sellers of Energy, et al., 96 FERC ¶ 63,044 (2001).

² In a separate motion, Indicated Government Entities ask for oral argument on one discrete issue: whether the Commission can order governmental entities to make refunds for bilateral contract transactions in the Pacific Northwest markets. Argument on this issue will not be allowed.

The refund claimants will be allotted a total of one hour to present their arguments, a portion of which may be reserved for rebuttal purposes. The parties opposed to refunds also will be allotted one hour to present their arguments. No later than May 29, 2003, the parties in this proceeding must notify the Commission of the number of representatives they wish to present and the manner in which they desire to allocate their allotted time. The parties must be prepared to address all aspects of this case, except as indicated in footnote 2 above. The parties participating in the oral argument should also be prepared to cite the specific record evidence which supports their arguments. Parties are reminded that new evidence cannot be introduced at oral argument. Parties are asked not to bring any visual aids for use at the oral argument.

A transcript of the oral argument will be available immediately from Ace Reporting Company (202-347-3700 or 1-800-336-6646) for a fee. A transcript will also be available for the public on the Commission's FERRIS system two weeks after the oral argument. Additionally, Capitol Connection offers the opportunity for remote listening and viewing of the oral argument. It is available for a fee, live over the Internet, via C-Band Satellite. Persons interested in receiving the broadcast or needing information on making arrangements should contact David Reininger or Julia Morelli at the Capitol Connection (703-993-3100) as soon as possible or visit the Capitol Connection Web site at http://www.capitolconnection.gmu.edu and click on “FERC.”

Magalie R. Salas,
Secretary.

[FR Doc. 03-13291 Filed 5-28-03; 8:45 am]

BILLING CODE 6717-01-P